DEPARTMENT OF DEFENSE

Office of the Secretary

Senior Executive Service Performance Review Board

AGENCY: Office of the Inspector General of the Department of Defense (DoD).

ACTION: Notice.

SUMMARY: This notice announces the appointment of the members of the Senior Executive Services (SES) Performance Review Board (PRB) for the OIG DoD, as required by 5 U.S.C. 4314(c)(4). The PRB provides fair and impartial review of SES performance appraisals and makes recommendations regarding performance ratings, perforamnce awards and recertification to the Inspector General.

DATES: July 31, 2002.

FOR FURTHER INFORMATION CONTACT: Mr. Michael Peterson, Director, Personnel and Security, Office of Administration and Information Management, OIG DoD, 400 Army Navy Drive, Arlington, VA 22202, (703) 602-4516.

Charles W. Beardall, Deputy Assistant Inspector General for Criminal Investigative Policy and Oversight, OAIG—for Investigations.

Thomas J. Bonnar, Deputy Assistant Inspector General for Investigations.

Patricia A. Brannin, Deputy Assistant Inspector General for Audit Policy and Oversight, OAIG—Auditing.

David A. Brinkman, Director, Audit Followup and Technical Support, OAIG—Auditing

C. Frank Broome, Director, Office of Departmental Inquiries.

Thomas F. Gimble, Director, Acquisition, Management, OAIG—Auditing.

Paul J. Granetto, Director, Contract Management, OAIG-Auditings.

Joel L. Leson, Director, Administration and Information Management.

Carol L. Levy, Assistant Inspector General for Investigations.

David K. Steensma, Deputy Assistant Inspector General for Auditing.

Shelton R. Young, Director, Readiness and Logistics Support, OAIG—Auditing.

Edward L. Blansitt, Deputy Inspector General, Department of Commerce.

Joel S. Gallay, Deputy Inspector General, General Services Admin.

Gary L. Johnson, Deputy Inspector General, Environmental Protection Agency.

Todd J. Zinser, Deputy Inspector General, Department of Transportation.

Dated: July 23, 2002.
Patricia L. Toppings,
Alternate OSD Federal Register Liaison Officer, Department of Defense.

[FR Doc. 02-19032 Filed 7-26-02; 8:45 am]

BILLING CODE 5001-08-M